DEPARTMENT OF COMMERCE

International Trade Administration

[A-485-806]

Certain Hot-Rolled Carbon Steel Flat Products from Romania: Preliminary Results of Antidumping Duty Administrative Review

AGENCY: Import Administration, International Trade Administration, Department of Commerce.

SUMMARY: In response to a request by United States Steel Corporation, a domestic interested party, the Department of Commerce (the Department) is conducting an administrative review of the antidumping duty order on certain hot-rolled carbon steel flat products (hot-rolled steel) from Romania. The period of review (POR) is November 1, 2002, through October 31, 2003.

We preliminarily find that sales have been made below normal value (NV). If these preliminary results are adopted in our final results of administrative review, we will instruct U.S. Customs and Border Protection (CBP) to assess antidumping duties on the subject merchandise that was exported by Ispat Sidex S.A. (Ispat Sidex) and its subsidiary, Sidex Trading S.R.L. (Sidex Trading), and entered during the POR.

EFFECTIVE DATE: December 7, 2004.

FOR FURTHER INFORMATION CONTACT: Charles Riggle at (202) 482-0650 or David Layton at (202) 482-0371, AD/CVD Operations, Office 8, Import Administration, International Trade Administration, U.S. Department of Commerce, 14th Street and Constitution Avenue, NW, Washington, DC 20230.

SUPPLEMENTARY INFORMATION:

Background

On November 29, 2001, the Department published an antidumping duty order on hot-rolled steel from Romania. See Notice of Amended Final Determination of Sales at Less Than Fair Value and Antidumping Duty Order: Certain Hot-Rolled Carbon Steel Flat Products From Romania, 66 FR 59566 (November 29, 2001) (Amended Determination and Order). On November 3, 2003, the Department published a notice of opportunity to request an administrative review of this order. See Antidumping or Countervailing Duty Order, Finding, or Suspended Investigation; Opportunity to Request Administrative Review, 68 FR 62279 (November 3, 2003). On November 28, 2003, in accordance with 19 CFR 351.213(b)(1), the petitioner requested a review of Ispat Sidex, a producer/exporter of hot-rolled steel from Romania.

On December 24, 2003, the Department published a notice of initiation of administrative review of the antidumping duty order on hot-rolled steel from Romania covering the period November 1, 2002, through October 31, 2003. See Initiation of Antidumping and Countervailing Duty Administrative Reviews, Request for Revocation in Part and Deferral of Administrative Review, 68 FR 74550 (December 24, 2003). On July 12, 2004, the Department published a notice extending the deadline for the issuance of the preliminary results by 120 days until no later than November 29, 2004. See Extension of the Time Limit for the Preliminary Results of Antidumping Duty Administrative Review, 69 FR 41785 (July 12, 2004). We are conducting this review under Section 751(a) of the Tariff Act of 1930, as amended (the Act).

The petitioner requested an administrative review of Ispat Sidex. Sidex Trading is Ispat Sidex's subsidiary trading company. Ispat Sidex and Sidex Trading submitted a consolidated response for this review. We consider Sidex Trading to be part of Ispat Sidex and are thus treating these two companies as a single entity. See Memorandum to File: Treatment of Ispat Sidex S.A. and its subsidiary, Sidex Trading S.R.L., as a single entity (November 29, 2004).

Romania's designation as a non-market-economy (NME) country remained in effect until January 1, 2003.¹ Since the first two months of the POR fell before Romania's graduation to market-economy status and the last ten months of this POR came after its graduation, in its antidumping questionnaire to Ispat Sidex, dated January 26, 2004, the Department determined that it would treat Romania as an NME country from November 1, 2002, through December 31, 2002, and a market-economy (ME) country from January 1, 2003, through October 31, 2003. Ispat Sidex stated in its February 23, 2004, response to the Department's ME Section A questionnaire that it made no sales of subject merchandise during the 10-month ME period. In a separate February 23, 2004, submission, Ispat Sidex provided documentation to support its claim that it sold no subject merchandise during the ME portion of the POR. The Department corroborated this claim using exporter-specific CBP import data. See Decision Memorandum to Gary Taverman (March 9, 2004) available in the Department's Central Records Unit, room B099, of the main Commerce building (CRU). Therefore, in the section of this notice entitled Preliminary Results of the Review, we have calculated a weighted-average dumping margin reflecting the margin we calculated for the NME portion of the POR because we found no sales of subject merchandise during the ME portion of the POR. This weighted-average figure thus represents the margin of dumping for the entire POR.

¹ In Certain Small Diameter Carbon and Alloy Seamless Standard, Line, and Pressure Pipe from Romania: Final Results of Antidumping Duty Administrative Review, 68 FR 12672, 12673 (March 17, 2003), the Department reviewed the non-market-economy status of Romania and determined to reclassify Romania as a market economy for purposes of antidumping and countervailing duty proceedings, pursuant to section 771(18)(A) of the Act, effective January 1, 2003. See Memorandum from Lawrence Norton, Import Policy Analyst, to Joseph Spetrini, Acting Assistant Secretary for Import Administration: Antidumping Duty Administrative Review of Certain Small Diameter Carbon and Alloy Seamless Standard, Line, and Pressure Pipe from Romania-Non-Market Economy Status Review (March 10, 2003).

Scope of the Order

The products covered by the order are certain hot-rolled carbon steel flat products of a rectangular shape, of a width of 0.5 inch or greater, neither clad, plated, nor coated with metal and whether or not painted, varnished, or coated with plastics or other non-metallic substances, in coils (whether or not in successively superimposed layers), regardless of thickness, and in straight length, of a thickness of less than 4.75 mm and of a width measuring at least 10 times the thickness. Universal mill plate (i.e., flat-rolled products rolled on four faces or in a closed box pass, of a width exceeding 150 mm, but not exceeding 1250 mm, and of a thickness of not less than 4.0 mm, not in coils and without patterns in relief) of a thickness not less than 4.0 mm is not included within the scope of this order.

Specifically included within the scope are vacuum degassed, fully stabilized steels (commonly referred to as interstitial-free (IF) steels), high strength low alloy (HSLA) steels, and the substrate for motor lamination steels. IF steels are recognized as low carbon steels with micro-alloying levels of elements such as titanium or niobium (also commonly referred to as columbium), or both, added to stabilize carbon and nitrogen elements. HSLA steels are recognized as steels with micro-alloying levels of elements such as chromium, copper, niobium, vanadium, and molybdenum. The substrate for motor lamination steels contains micro-alloying levels of elements such as silicon and aluminum.

Steel products to be included in the scope of this order, regardless of definitions in the Harmonized Tariff Schedule of the United States (HTSUS), are products in which: (i) iron predominates, by weight, over each of the other contained elements; (ii) the carbon content is 2 percent or less, by weight; and (iii) none of the elements listed below exceeds the quantity, by weight, respectively indicated: 1.80 percent of manganese, or 2.25 percent of silicon, or 1.00 percent of copper, or 0.50 percent of aluminum, or 1.25 percent of chromium, or 0.30 percent of cobalt, or 0.40 percent of lead, or 1.25 percent of nickel, or 0.30 percent of tungsten, or 0.10 percent of molybdenum, or 0.10 percent of niobium, or 0.15 percent of vanadium, or 0.15 percent of zirconium.

All products that meet the physical and chemical description provided above are within the scope of the order unless otherwise excluded. The following products, by way of example, are outside or are specifically excluded from the scope:

• Alloy hot-rolled steel products in which at least one of the chemical elements exceeds those listed above (including, e.g., American Society for Testing and Materials (ASTM) specifications A543, A387, A514, A517, A506). Society of Automotive Engineers (SAE)/American Iron & Steel Institute (AISI) grades of series 2300 and higher.

• Ball bearing steels, as defined in the HTSUS.

• Tool steels, as defined in the HTSUS.

• Silico-manganese (as defined in the HTSUS) or silicon electrical steel with a silicon level exceeding 2.25 percent.

• ASTM specifications A710 and A736.

• USS abrasion-resistant steels (USS AR 400, USS AR 500).

• All products (proprietary or otherwise) based on an alloy ASTM specification (sample specifications: ASTM A506, A507).

• Non-rectangular shapes, not in coils, which are the result of having been processed by cutting or stamping and which have assumed the character of articles or products classified outside chapter 72 of the HTSUS.

The merchandise subject to this order is classified in the HTSUS at the following subheadings: 7208.10.15.00, 7208.10.30.00, 7208.10.60.00, 7208.25.30.00, 7208.25.60.00, 7208.26.00.30, 7208.26.00.60, 7208.27.00.30, 7208.27.00.60, 7208.36.00.30, 7208.36.00.60, 7208.37.00.30, 7208.37.00.60, 7208.38.00.15, 7208.38.00.30, 7208.38.00.90, 7208.39.00.15, 7208.39.00.30, 7208.39.00.90, 7208.40.60.30, 7208.40.60.60, 7208.53.00.00, 7208.54.00.00, 7208.90.00.00, 7211.14.00.90, 7211.19.15.00, 7211.19.20.00, 7211.19.30.00, 7211.19.45.00, 7211.19.60.00, 7211.19.75.30, 7211.19.75.60, and 7211.19.75.90. Certain hot-rolled carbon steel flat products covered by this order, including: vacuum degassed fully stabilized; high strength low alloy; and the substrate for motor lamination steel may also enter under the following tariff numbers: 7225.11.00.00, 7225.19.00.00, 7225.30.30.50, 7225.30.70.00, 7225.40.70.00, 7225.99.00.90, 7226.11.10.00, 7226.11.90.30, 7226.11.90.60, 7226.19.10.00, 7226.19.90.00, 7226.91.50.00, 7226.91.70.00, 7226.91.80.00, and 7226.99.00.00. Subject merchandise may also enter under 7210.70.30.00, 7210.90.90.00, 7211.14.00.30, 7212.40.10.00, 7212.40.50.00, and 7212.50.00.00.

Although the HTSUS subheadings are provided for convenience and customs purposes, our written description of the merchandise subject to this scope is dispositive.

Separate Rates

A designation of a country as an NME remains in effect until it is revoked by the Department. See section 771(18)(C)(i) of the Act. As stated above, since Romania was classified as an NME country until January 1, 2003, we are treating Romania as an NME country for the first two months of the POR, from November 1, 2002, through December 31, 2002.

It is the Department's standard policy to assign all exporters of subject merchandise subject to review in an NME country a single rate unless an exporter can demonstrate an absence of government control, both in law and in fact, with respect to exports. To establish whether an exporter is sufficiently independent of government control to be entitled to a separate rate, the Department analyzes the exporter in light of the criteria established in the Final Determination of Sales at Less Than Fair Value: Sparklers from the People's Republic of China, 56 FR 20588 (May 6, 1991) (Sparklers), as amplified in Final Determination of Sales at Less Than Fair Value: Silicon Carbide from the People's Republic of China, 59 FR 22585 (May 2, 1994) (Silicon Carbide). Under this test, exporters in NME countries are entitled to separate, company-specific margins when they can demonstrate an absence of government control over exports, both in law (de jure) and in fact (de facto). Evidence supporting, though not requiring, a finding of de jure absence of government control over export activities includes the following: 1) an absence of restrictive stipulations associated with the individual exporter's business and export licenses; 2) any legislative enactments decentralizing control of companies; and 3) any other formal measures by the government decentralizing control of companies. De facto absence of government control over exports is based on four factors: 1) Whether each exporter sets its own export prices independently of the government and without the approval of a government authority; 2) whether each exporter retains the proceeds from its sales and makes independent decisions regarding the disposition of profits or the financing of losses; 3) whether each exporter has the authority to negotiate and sign contracts and other agreements; and 4) whether each exporter has autonomy from the government regarding the selection of management. See Silicon Carbide, 59 FR at 22587, and Sparklers, 56 FR at 20589.

We have determined, according to the criteria identified in Sparklers and Silicon Carbide, that evidence on the record demonstrates an absence of government control, both in law and in fact, with respect to exports by Ispat Sidex and Sidex Trading.

With respect to de jure control, Ispat Sidex is part of the LNM Group, a private joint-stock company organized under the Romanian Commercial Companies Law No. 31/1990, as amended. Ispat Sidex was privatized on November 16, 2001, when LNM Holdings N.V. finalized its purchase of the majority share capital of Ispat Sidex. During the POR, Ispat Sidex was publicly traded on the Romanian stock exchange. Ispat Sidex has provided the Department with a list of its major stockholders that, in addition to LNM Holdings N.V., includes Moldova Financial Investments Company and several individual shareholders with holdings of less than one percent of Ispat Sidex's total shares. Sidex Trading is a limited-liability trading company organized under the Romanian Commercial Companies Law, Law No. 31/1990, as amended.

Ispat Sidex has placed on the record documents to demonstrate the absence of de jure control including its list of shareholders, business license (“Certificat de Inregistrare”), and translations of relevant Romanian commercial laws, including the Romanian Commercial Companies Law, Law No. 31/1990, the Trade Registry Law, Law No. 26/1990, and various government ordinances related to the company's privatization and tax status. We analyzed these laws and found that they establish the absence of de jure control during the POR. These Romanian laws provide Ispat Sidex with the right to establish business organizations for the purpose of conducting any lawful commercial activity, including the export of subject merchandise, provided that the company registers with the government. The activities of Ispat Sidex are limited only by its own articles of incorporation and by-laws, which establish the scope of Ispat Sidex's business activities. Ispat Sidex's by-laws allow the company to engage in a broad range of activities related to the sale of hot-rolled steel, including exporting. There are no business or export licenses required or granted by the government, and the company's business license does not indicate the existence of any special entitlements. See pages A-NME-8 to A-NME-9 of Ispat Sidex's February 23, 2004, submission.

With respect to de facto control, according to its questionnaire response, the management of Ispat Sidex controls Ispat Sidex, making all decisions concerning budget, sales and pricing subject to review by the company's “council of administration” (Ispat Sidex's board of directors). Sidex Trading is a subsidiary of Ispat Sidex and is controlled by its president who is appointed by the Ispat Sidex council of administration. Ispat Sidex has indicated that neither it nor Sidex Trading has any relationship with national, provincial, or local governments, including ministries or offices of those governments. Ispat Sidex reported the following: 1) It sets prices for merchandise sold to the United States based on negotiations with customers and these prices are not subject to review by any government organization; 2) it does not coordinate with other exporters or producers to set the price or determine to which market companies sell subject merchandise; 3) the export sales manager of Sidex Trading and Ispat Sidex's export manager have the authority to make export sales; 4) during its two-year term the Ispat Sidex council of administration approves the hiring of key officials, approves the disposition of assets over a certain level, and proposes the general budget; 5) the general assembly of shareholders elects the general director of Ispat Sidex, who in turn appoints the executive directors from the ranks of Ispat Sidex employees; 6) Ispat Sidex's executive directors have broad management responsibilities which include the approval and execution of contracts, payments to suppliers, and other normal business operations; 7) Ispat Sidex and Sidex Trading control how their export revenues are used without restrictions from outside the companies; 8) Ispat Sidex and Sidex Trading hold the bank accounts in which their export revenues are deposited in their respective names; 9) Ispat Sidex's council of administration and Sidex Trading's president have access to their respective export revenue accounts; 10) Ispat Sidex and Sidex Trading calculate their profits in accordance with international accounting standards and do not report export profits separately in their respective accounting records; 11) the Ispat Sidex general assembly of shareholders meets annually to review the previous year's results and vote on the following year's budget; 12) Ispat Sidex and Sidex Trading can deposit their foreign currency earnings from sales of subject merchandise freely in their respective accounts and there are no requirements that the two companies sell any of their foreign currency earnings to the Romanian government.

Therefore, based on the information provided, we preliminarily determine that there was an absence of de facto government control over the export functions of Ispat Sidex and Sidex Trading.

Export Price

Because Ispat Sidex sold the subject merchandise through its subsidiary, Sidex Trading, to unaffiliated purchasers in the United States prior to importation into the United States and constructed export price methodology is not otherwise indicated, we have used export price in accordance with section 772(a) of the Act.

We calculated export price based on the price to unaffiliated purchasers. From this price, we deducted amounts for foreign inland freight and foreign brokerage and handling, pursuant to section 772(c)(2)(A) of the Act. We valued these deductions using surrogate values. We selected Egypt as the primary surrogate country for the reasons explained in the “Normal Value” section of this notice. For the deductions of foreign inland freight and foreign brokerage and handling, we used Egyptian surrogate values because these services were provided by Romanian companies and paid in Romanian lei. For certain U.S. sales for which it was appropriate, we also deducted international freight, U.S. brokerage and handling and U.S. customs duties pursuant to section 772(c)(2)(A) of the Act.

Normal Value

As discussed above, the Department is treating Romania as an NME country for the period November 1, 2002, through December 31, 2002. Section 773(c)(1) of the Act provides that, in the case of an NME, the Department shall determine NV using a factors-of-production methodology if the merchandise is exported from an NME and the information does not permit the calculation of NV using home-market prices, third-country prices, or constructed value under section 773(a) of the Act. Because information on the record does not permit the calculation of NV using home-market prices, third-country prices, or constructed value, we calculated NV based on a factors-of-production methodology in accordance with sections 773(c)(3) and (4) of the Act and 19 CFR 351.408(c).

Because we are using surrogate country factors-of-production prices to determine NV, section 773(c)(4) of the Act requires that we use values from a market-economy (surrogate) country that is at a level of economic development comparable to that of Romania and is a significant producer of comparable merchandise. We have determined that the Philippines, Ecuador, Egypt, Algeria, El Salvador, and the Dominican Republic are market-economy countries at a comparable level of economic development to that of Romania. See March 10, 2004, memorandum from Ron Lorentzen to Gary Taverman which is available in the CRU. In addition, we have found that Egypt is a significant producer of comparable merchandise, i.e., hot-rolled steel. See Memorandum to File from Paul Stolz, dated November 29, 2004, which is on file in the CRU. We have chosen Egypt as the primary surrogate country. Pursuant to 19 CFR 351.408(c)(2), we selected, where possible, publicly available values from Egypt which were average non-export values, representative of a range of prices within the POR or most contemporaneous with the POR, product-specific, and tax-exclusive. Where we did not have reliable Egyptian values we used values for inputs from the Philippines, which also produces comparable products to the subject merchandise. Because some of the data were not contemporaneous with the POR, we adjusted the data to the POR using the wholesale price index (WPI) published by the International Monetary Fund. Also, where we have relied upon import values, we have excluded imports from South Korea, Thailand, and Indonesia. The Department has found that these countries maintain broadly available, non-industry-specific export subsidies and that the existence of these subsidies provides sufficient reason to believe or suspect that export prices from these countries are distorted. See Final Determination of Sales at Less Than Fair Value: Certain Automotive Replacement Glass Windshields From the People's Republic of China, 69 FR 61790 (October 21, 2004) as discussed in accompanying Issues and Decision Memorandum at Comment 5. Our practice of excluding subsidized prices has been upheld in China National Machinery Import and Export Corporation v. United States and the Timken Company, 293 F. Supp. 2d 1334 (CIT 2003), aff'd, 104 Fed. Appx. 183 (Fed. Cir. 2004).

Material Inputs and Surrogate Values

To the extent non-aberrational and contemporaneous data were available, we valued material inputs and packing material using imports statistics from the Egyptian import statistical data for 2002 from the Egyptian Central Agency for Public Mobilization and Statistics (CAPMAS), the Egyptian government's official statistical agency. For certain material inputs and packing material, we used import data for 2002 from UN Commodity Trade Statistics for 2002 (U.N. Comtrade) or the World Trade Atlas (WTA). Where a material input was purchased in a market-economy currency from a market-economy supplier, we valued all of the input at the actual purchase price in accordance with 19 CFR 351.408(c)(1). Consistent with Certain Cut-to-Length Carbon Steel Plate From Romania: Preliminary Results of the Antidumping Duty Administrative Review and Notice of Intent To Rescind in Part, 69 FR 54108 (September 7, 2004), to value limestone we used Filipino import statistics for 2001 from the WTA. For a complete analysis of surrogate values, see the November 29, 2004, memorandum, Factors of Production Valuation for Preliminary Results (Valuation Memorandum), available in the CRU.

To value electricity we used the 2001 electricity rates for Egypt reported on the website of the International Trade Administration under “Trade Information Center.” See www.web.ita.doc.gov/ticwebsite/neweb.nsf/. We based the value of natural gas on publically available Egyptian pricing data from an article dated July 18, 2002, published at http://www.rigzone.com/news/article.asp?a_id=3846. These data reflect market prices for natural gas in Egypt and were used in our most recent final results for seamless steel pipe from Romania. See Certain Small Diameter Carbon and Alloy Seamless Standard, Line, and Pressure Pipe from Romania: Final Results of Antidumping Administrative Review, 68 FR 54418 (September 17, 2003), and corresponding Issues and Decisions Memorandum at Comment 2. We adjusted the value for natural gas for inflation. For injected coal powder, we used Egyptian import data from CAPMAS for 2002.

For labor, we used the Romanian regression-based wage rate at Import Administration's home page, Import Library, Expected Wages of Selected NME Countries, revised in September 2003. See www.ia.ita.doc.gov/wages/index.html. Because of the variability of wage rates in countries with similar per-capita gross domestic products, section 351.408(c)(3) of the Department's regulations requires the use of a regression-based wage rate. The source of these wage-rate data on the Import Administration's web site is the Year Book of Labour Statistics 2002, International Labour Office (Geneva: 2002), Chapter 5B: Wages in Manufacturing.

We valued by-products using Egyptian import data for 2002 from CAPMAS and import data from U.N. Comtrade.

We based our calculation of depreciation, selling, general and administrative (SG&A) expenses, and profit from the financial statements of Alexandria National Iron and Steel Works Company (AISC), an Egyptian producer of products identical to the subject merchandise. We were unable to calculate a specific non-depreciation overhead based on the AISC financial statements because the statements did not itemize expenses associated with non-depreciation overhead. Therefore, to estimate AISC's amount of non-depreciation overhead expense, we have calculated a company-specific non-depreciation overhead rate (non-depreciation overhead amounts/cost of sales) from the financial statements of Ispat Annaba SPA, an Algerian producer of products identical to the subject merchandise. We selected the non-depreciation overhead rate from the Algerian company because it was the best available information on the record for the preliminary results. We will consider alternative surrogate non-depreciation overhead rates for the final results of this review.

For these preliminary results, we multiplied AISC's total cost of goods sold by the non-depreciation overhead rate from Ispat Annaba (5.02 percent) to derive a value for AISC's non-depreciation overhead. We added the derived AISC non-depreciation overhead value to AISC's reported depreciation expense to obtain a value for total factory overhead. We subtracted this factory overhead amount from AISC's cost of goods sold to obtain a value for total material, labor, and energy expenses, and then we divided the total factory overhead by total material, labor, and energy expenses to calculate the factory overhead ratio we used in our calculation of normal value.

To value truck freight rates, we used a 1999 rate (adjusted for inflation) provided by a trucking company located in Egypt. For rail transportation, we used rail rates in Egypt, information also used in Titanium Sponge from the Republic of Kazakhstan: Notice of Final Results of Antidumping Duty Administrative Review, 64 FR 66169 (November 24, 1999), which we obtained from a 1999 letter from the Egyptian International House. We adjusted these rail rates for inflation. For barge transportation, we valued barge rates using an average of Egyptian rates from an Egyptian freight forwarder for steel coil and coal in bulk from Alexandria to Hulwan, Egypt, as adjusted for inflation.

For brokerage and handling, we used a 1999 rate (adjusted for inflation) provided by a trucking and shipping company located in Alexandria, Egypt.

For additional analysis regarding the surrogate values we have applied, see the Valuation Memorandum available in the CRU.

Preliminary Results of the Review

We preliminarily determine that the following dumping margin exists for the period November 1, 2002, through October 31, 2003:

Exporter/manufacturer | Weighted-average margin percentage
Ispat Sidex | 33.47

Within five days of the date of publication of this notice, in accordance with 19 CFR 351.224, the Department will disclose its calculations. Any interested party may request a hearing within 30 days of the date of publication of this notice. Any hearing, if requested, will be held approximately 37 days after the publication of this notice. Issues raised in hearings will be limited to those raised in the case and rebuttal briefs. Interested parties may submit case briefs within 30 days of the date of publication of this notice. Rebuttal briefs, which must be limited to issues raised in the case briefs, may be filed not later than 35 days after the date of publication of this notice. Parties who submit case briefs or rebuttal briefs in this review are requested to submit with each argument (1) a statement of the issue, (2) a brief summary of the argument, and (3) a table of authorities. Parties are also requested to submit such arguments, and public versions thereof, with an electronic version on a diskette.

Duty Absorption

On January 23, 2004, United States Steel Corporation requested that the Department determine whether antidumping duties had been absorbed during the POR. Section 751(a)(4) of the Act provides that, if requested, the Department will determine during an administrative review initiated two or four years after the publication of the order whether antidumping duties have been absorbed by a foreign producer or exporter if the subject merchandise is sold in the United States through an affiliated importer. In this case, Ispat Sidex sold to the United States through an importer that is affiliated within the meaning of section 771(33) of the Act. Because this review was initiated two years after the publication of the antidumping duty order, we will make a duty-absorption determination in this segment of the proceeding. Accordingly, we have requested that Ispat Sidex provide information on duty absorption by December 6, 2004. Based on Ispat Sidex's response, we will make a preliminary determination on duty absorption and provide parties with an opportunity to comment prior to the completion of the final results of this review.

Assessment

The Department shall determine, and CBP shall assess, antidumping duties on all appropriate entries. In accordance with 19 CFR 351.212(b)(1), we have calculated, whenever possible, an exporter/importer (or customer)-specific assessment rate or value for merchandise subject to this review. Ispat Sidex reported all of its sales during the POR as export-price sales. Ispat Sidex provided entered values for only a portion of these reported sales.

With respect to export-price sales for which entered values were reported, for these preliminary results we divided the total dumping margins for the reviewed sales by the total entered value of those reviewed sales for each applicable importer. See 19 CFR 351.212(b). For duty-assessment rates calculated on this basis, we will direct the CBP to assess the resulting percentage margin against the entered customs values for the subject merchandise on each of the applicable importer's/customer's entries during the review period.

With respect to export-price sales for which entered values were not reported, for these preliminary results we divided the total dumping margins for each exporter's importer/customer by the total number of units the exporter sold to that importer/customer. For assessment amounts calculated on this basis, we will direct CBP to assess the resulting per-unit dollar amount against each unit of merchandise in each of that importer's/customer's entries during the review period.

Cash Deposit Requirements

The following cash deposit rates will be effective upon publication of the final results for all shipments of hot-rolled steel from Romania entered, or withdrawn from warehouse, for consumption on or after the publication date, as provided for by section 751(a)(1) of the Act: (1) for Ispat Sidex, which has a separate rate, the cash deposit rate will be the company-specific rate established in the final results of review; (2) for all other Romanian exporters, the cash deposit rate will be the Romania-wide rate, 88.62 percent, from the Amended Determination and Order; (3) for non-Romanian exporters of subject merchandise from Romania, the cash deposit rate will be the rate applicable to the Romanian supplier of that exporter. These deposit rates, when imposed, shall remain in effect until publication of the final results of the next administrative review.

This notice also serves as a preliminary reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

This determination is issued and published in accordance with sections 751(a)(1) and 777(i)(1) of the Act.

Dated: November 29, 2004.
James J. Jochum,
Assistant Secretary for Import Administration.

[FR Doc. E4-3526 Filed 12-6-04; 8:45 am]

BILLING CODE 3510-DS-S